COMMITTEE FOR PURCHASE FROM PEOPLE WHO ARE BLIND OR SEVERELY DISABLED

Procurement List Deletions

AGENCY: Committee for Purchase From People Who Are Blind or Severely Disabled.

ACTION: Deletions from Procurement List.

SUMMARY: This action deletes products from the Procurement List that were being furnished by AbilityOne Program-associated nonprofit agencies.

DATES: Effective Date: April 6, 2009.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Deletions

On 11/21/2008 and 12/19/2008, the Committee for Purchase From People Who Are Blind or Severely Disabled published notices (73 FR 70617 and 73 FR 77608) of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

NSN: 7210-00-139-6376—Sheet, Bed, Disposable.

NPA: East Texas Lighthouse for the Blind, Tyler, TX.

Contracting Activity: Defense Supply Center Philadelphia, Philadelphia, PA.

NSN: 8455-01-396-2284—Badge, Identification.

NPA: East Texas Lighthouse for the Blind, Tyler, TX.

Contracting Activity: GSA/FAS Southwest Supply Center (QSDAC), Fort Worth, TX.

Barry S. Lineback,
Director, Business Operations.

[FR Doc. E9-4784 Filed 3-5-09; 8:45 am]

BILLING CODE 6353-01-P